DEPARTMENT OF DEFENSE

Department of the Army; Corps of Engineers

Intent To Prepare Draft Environmental Impact Statement for Revised Water Control Manuals for the Alabama-Coosa-Tallapoosa River Basin

AGENCY: Department of the Army, U.S. Army Corps of Engineers, DoD.

ACTION: Notice of intent.

SUMMARY: The U.S. Army Corps of Engineers (Corps), Mobile District, intends to prepare an update of the water control manuals for the Alabama-Coosa-Tallapoosa (ACT) River Basin. Concurrent with that revision, a Draft Environmental Impact Statement (EIS) will be prepared, as required by the National Environmental Policy Act (NEPA). The Draft EIS will address updated operating criteria and guidelines for managing the water storage and release actions of agency water managers and associated environmental impacts.

FOR FURTHER INFORMATION CONTACT: Questions about the manual update or NEPA process can be answered by: Mr. Chuck Sumner, Environment and Resources Branch, Planning Division, U.S. Army Engineer District-Mobile, Post Office Box 2288, Mobile, AL 36628-0001; Telephone (251)694-3857; or delivered by electronic facsimile at (251) 694-3815; or E-mail: lewis.c.sumner@usace.army.mil. You may also request to be included on the mailing list for public distribution of notices, meeting announcements and documents.

SUPPLEMENTARY INFORMATION: Background. Water control manuals are guidance documents that assist federal water managers in the operation of individual and multiple interdependent federal reservoirs on the same river system. They provide technical, historical, hydrological, geographic, demographic, policy and other information that guide the proper management of reservoirs during times of high water, low water, and normal conditions. The manuals also contain drought plans and zones to assist federal water managers in knowing when to reduce or increase reservoir releases, and how to ensure the safety of dams during extreme conditions. The authority and guidance for the Corps to prepare and update these manuals may be found in Section 7 of the 1944 Flood Control Act, the Federal Power Act, Section 9 of Public Law 436-83, and the following Corps of Engineer Regulations: ER 1110-2-240, ER 1110-2-241, ER 1110-2-1941 and ER 1110-2-8156.

The ACT Basin provides water resources for multiple purposes from northwestern GA down through central AL and to the Gulf Coast at the mouth of Mobile Bay, extending a distance of approximately 320 miles and encompassing an area of approximately 22,800 square miles. The master operating manual for the ACT River Basin and the individual reservoir manuals were last updated at various dates as far back as the early 1950's. Sixteen major dams and reservoirs (five Federal and eleven non-Federal) are located in the basin. In Georgia, these include Allatoona Dam and Lake, and Carters Dam and Lake, both owned and operated by the Corps. In Alabama they include Weiss Dam and Lake, H. Neely Henry Dam and Lake, Logan Martin Dam and Lake, Lay Dam and Lake, Mitchell Dam and Lake, Walter Bouldin Dam and Lake, Jordan Dam and Lake, Harris Dam and Lake, Martin Dam and Lake, Yates Dam and Lake, and Thurlow Dam and Lake, all owned and operated by Alabama Power Company (APC). Also in Alabama, are three dams and reservoirs owned and operated by the Corps including Jones Bluff Dam/Woodruff Lake, Millers Ferry Dam/William “Bill” Dannelly Lake and Claiborne Dam and Lake. The authorized project purposes at the Corps lakes include water supply, flood control, hydropower, navigation, fish and wildlife conservation, and recreation.

The new manuals will eventually replace the current manuals and will address the basin-wide management of those water resources. Due to the flood control operational responsibilities of the Corps, some or all of the manuals for some of the APC reservoirs will be updated.

Public participation throughout the water control plan revision process is essential. The Corps invites full public participation at all stages to promote open communication and better decision making. All persons, stakeholders, and organizations that have an interest in water-related resources in the ACT basin, including minority, low-income, disadvantaged and Native American groups, are urged to participate in this NEPA environmental analysis process. Assistance will be provided upon request to anyone having difficulty understanding how to participate. Dates and locations for public scoping meetings will be announced by future publication in the Federal Register and in the local news media. Tentative dates for publication of the draft water control manuals and EIS and other opportunities for public involvement will also be announced at that time. Public comments are welcomed anytime throughout the NEPA process.

Cooperating Agencies. The lead responsibility for this action rests with the Corps. The Corps intends to coordinate and/or consult with an interagency team of Federal and State agencies during scoping and preparation of the draft EIS. A decision will be made during the scoping process whether other agencies will serve in an official role as cooperating agencies.

Scoping. The Alabama-Coosa-Tallapoosa Rivers (ACT)/Apalachicola-Chattahoochee-Flint Rivers (ACF) Comprehensive Study from 1990 to 1997 and ACF Compact negotiations from 1997 to 2004 involved the States (Alabama, Florida and Georgia), stakeholders and the public in identifying areas of concern; collecting and developing water resource, environmental, and socioeconomic data; and developing tools to assist in decisions affecting water resources within the two basins. Development of the updated water control manuals and scoping for this EIS will continue to build upon the knowledge and information developed during the Comprehensive Study and subsequent Compact negotiations. Scoping meetings with agencies and stakeholder groups will be scheduled to identify any significant issues and data gaps, focus on the alternatives to be evaluated, and to identify any appropriate updated tools to assist in evaluation of alternatives and analysis of impacts.

Byron G. Jorns,
Colonel, Corps of Engineers, District Commander.

[FR Doc. E7-22043 Filed 11-8-07; 8:45 am]

BILLING CODE 3710-CR-P